DEPARTMENT OF COMMERCE

Economic Development Administration

Petition by a Firm for Certification of Eligibility To Apply for Trade Adjustment Assistance

ACTION: Extension of a currently approved collection, comment request.

The Department of Commerce (DoC) has submitted to the Office of Management and Budget (OMB) for clearance the following proposal for collection of information under provisions of the Paperwork Reduction Act (44 U.S.C. Chapter 5).

Agency: Economic Development Administration (EDA).

Title: Petition by a Firm for Certification of Eligibility to Apply for Trade Adjustment Assistance.

Agency Form Number: ED-840.

OMB Approval Number: 0610-0091.

Type of Request: Extension of a currently approved collection.

Burden: 1,544 hours.

Average Hours Per Response: 8 hours.

Number of Respondents: 193 respondents.

Needs and Uses: The information collection is needed to determine whether a firm is eligible to apply for trade adjustment assistance. This assistance helps U.S. manufacturing firms injured by imports to develop strategies for competing in the global market place. The information submitted is a major phase in obtaining a firm's history, including sales, production and employment data (the firm provides quarterly unemployment security forms submitted to the state, a description of the products produced by such firm, tax returns and/or financial statements, a firm's decline in sales accounts, and brochures of such firm's production). The information collection provides an essential tool for firms to use in submitting the information required to demonstrate that they qualify for certification of eligibility. The information is required under section 251 of the Trade Act of 1974, as amended.

Affected Public: Businesses, farms or other for-profit organizations.

Frequency: One time.

Respondent's Obligation: Required to obtain or retain benefits.

OMB Desk Officer: David Rostker, (202) 395-7340.

Copies of the above information collection proposal can be obtained by calling or writing Madeleine G. Clayton, DoC Forms Clearance Officer, (202) 482-3129, U.S. Department of Commerce, Room 6086, 14th and Constitution Avenue, NW., Washington, DC 20230. Written comments and recommendations for the proposed information collection should be sent within 30 days of publication of this notice to David Rostker, OMB Desk Officer, Room 10202, New Executive Office Building, Washington, DC 20503.

Dated: January 10, 2002.
Madeleine G. Clayton,
Departmental Forms Clearance Officer, Office of the Chief Information Officer.

[FR Doc. 02-1041 Filed 1-15-02; 8:45 am]

BILLING CODE 3510-34-P